SMALL BUSINESS ADMINISTRATION

Public Federal Regulatory Enforcement Fairness Hearing; Region III Regulatory Fairness Board

The U.S. Small Business Administration (SBA) Region III Regulatory Fairness Board and the SBA Office of the National Ombudsman will hold a National Regulatory Fairness Hearing on Tuesday, April 17, 2007, at 10 a.m. The forum will take place at the U.S. Courthouse, Ceremonial Court Room, 601 Market Street (Entrance on 6th Street), Philadelphia, PA 19106-1797. The purpose of the meeting is for Business Organizations, Trade Associations, Chambers of Commerce and related organizations serving small business concerns to report experiences regarding unfair or excessive Federal regulatory enforcement issues affecting their members.

Anyone wishing to attend or to make a presentation must contact Joe McDevitt, in writing or by fax in order to be placed on the agenda. Joe McDevitt, Chief Entrepreneurial Development, SBA, Philadelphia District Office, 900 Market Street, 5th Floor, Philadelphia, PA 19107, phone (215) 580-2706 and fax (202) 481-2724, e-mail: joseph.mcdevitt@sba.gov.

For more information, see our Web site at www.sba.gov/ombudsman.

Matthew Teague,
Committee Management Officer.

[FR Doc. E7-6631 Filed 4-6-07; 8:45 am]

BILLING CODE 8025-01-P